DEPARTMENT OF HEALTH AND HUMAN SERVICE

Health Resources and Services Administration

HRSA-03-099 Fiscal Year 2003 Competitive Cycle for the Bioterrorism Training and Curriculum Development Program (BTCDP) 93.996

AGENCY: Health Resources and Services Administration, HHS.

ACTION: Notice.

SUMMARY: The Health Resources and Services Administration announces that cooperative agreement applications will be accepted for the Bioterrorism Training and Curriculum Development Program for Fiscal Year 2003.

Purpose: The Bioterrorism Training and Curriculum Development Program consists of two discrete goals: (1) Provision of Continuing Education for practicing providers; and (2) Curricular Enhancement in health professions schools. Each area requires a separate application for funds.

Cooperative Agreements will be awarded to assist eligible entities to prepare a workforce of healthcare professionals to address the medical consequences of bioterrorism and other public health emergency preparedness and response issues. In this context, “other public health emergencies” includes other forms of terrorism (such as use of chemical, explosive, incendiary, or nuclear agents against the civilian population) as well as natural disasters and catastrophic accidents. Specifically, the goal of this program is the development of a healthcare workforce that possesses the knowledge, skills and abilities to: (1) Recognize indications of a terrorist event; (2) meet the acute care needs of patients, including pediatric and other vulnerable populations, in a safe and appropriate manner; (3) participate in a coordinated, multidisciplinary response to terrorist events and other public health emergencies; and (4) rapidly and effectively alert the public health system of such an event at the community, State, and national level.

Healthcare professionals provide a pivotal link to their communities. They disseminate accurate, responsible, trustworthy, and timely health related information to the public-at-large. This crucial component of the emergency response network helps to mitigate mortality and morbidity and to preserve public order while using resources effectively and efficiently. These professionals must be provided with the essential information needed to quickly identify a terrorist event; appropriately treat/respond to those in need of acute care; rapidly report such events to the public health authorities at the local, State and national levels, and participate in a coordinated and multidisciplinary response. The ability to meet the population's needs for acute care during a public health emergency is dependent upon the rapid and coordinated efforts of appropriate community providers and local and State public health response systems.

Effective responses to public health emergencies require close collaboration among healthcare providers, medical specialists and other health professionals involved in patient care, the public health system, and the emergency response system. To achieve such a collaborative environment, it will be necessary to implement new models of undergraduate/graduate curricula and continuing education for health professionals that broaden public health knowledge and ensure that essential multidisciplinary and interdisciplinary collaborative responses to emergencies will occur.

It is expected that the training supported with these funds will involve a two-tiered approach—that will not only provide the discipline specific knowledge, skills and abilities needed to recognize, treat, and efficiently report instances of a terrorist event, but also will prepare the learners to participate in a multidisciplinary terrorist response. Each course of study shall include both discipline appropriate clinically oriented material and the team collaboration/coordination needed to respond to terrorist events. These activities will outline the integrated professional roles and responsibilities inherent in a community response and may include participation in drills, exercises and/or simulations.

Authorizing Legislation: These applications are solicited under section 319F(g) of the Public Health Service Act as amended by section 105 of the Public Health Security and Bioterrorism Response Act of 2002, Pub. L. 107-188 and the Consolidated Appropriations Resolution, 2003 (Public Law 108-7), which provides approximately $26 million to support the training of a workforce of healthcare professionals to address Bioterrorism and other public health emergencies.

1. Eligible Applicants for Continuing Education: The entities eligible to apply for this program are academic health centers; other public or private nonprofit accredited or licensed health professions schools; other educational entities such as professional organizations and societies; private accrediting organizations; other nonprofit institutions or entities including faith-based organizations and community'based organizations; and multi-state or multi-institutional consortia of various combinations of these eligible entities.

(a) The applicant must demonstrate the ability to provide training to the full range of health care providers in an entire State, in a region of a State, or in a multi-State region, either by its own efforts or through partnerships or subcontracts.

(b) Applicants shall demonstrate, through programmatic descriptions and letters of support, linkages and relationships with entities that provide emergency preparedness and response training, including but not limited to the State Designated Agency for Emergency Preparedness, HRSA Hospital Preparedness Program awardees, the CDC Health Preparedness and Response for Bioterrorism Program awardees and the Metropolitan Medical Response System Participants. A comprehensive coordinated multi-disciplinary approach must be undertaken to effectively meet the needs without replication and redundancy.

(c) Applicants must establish and maintain a programmatic advisory board with members including representatives from the HRSA Hospital Preparedness Program, the CDC Public Health Preparedness and Response for Bioterrorism Program, an academic health center, other health professions schools, and both health service providers and consumers from the area served by the program. This advisory board shall meet no less than twice a year.

Targeted Trainees

The targeted trainees are both hospital and community-based health care providers, including, but not limited to, those serving in public and private hospitals, Community Health Centers, Migrant Health Centers, Federally Qualified Health Centers, National Health Service Corps sites, and private and group practice.

Estimated Number of Continuing Education Health Professions Trainees
Target profession | Annual number to be trained
NHSC Providers | 500
Health Center Administrators | 500
Allied Health Providers | 5,000
Nursing | 10,000
Medicine | 10,000
Nurse Practitioners | 1,000
Physician Assistants | 1,000
Dentists | 1,000
Pharmacists | 1,250
Mental Health Providers | 1,500
Public Health Providers | 1,000
Others to include EMS and Veterinarians | 5,250
Total | 38,000

In selecting from among the most highly ranked applications, efforts will be made to balance awards to achieve broad professional and geographical distribution.

2. Eligible Applicants for Curricular Enhancement: The entities eligible to apply for this program are public or private nonprofit accredited or licensed health professions schools; other educational entities such as professional organizations and societies; and other nonprofit institutions or entities including faith-based organizations and community-based organizations. Eligible entities, if not a health professions school, must include in their application the participation (i.e., through partnerships/subcontracts) of such a school to implement the curricular enhancement. In selecting from among the most highly ranked applications, efforts will be made to balance the distribution of awards across the following types of health professions schools: Medicine, Nursing, Mental Health, Allied Health, and others. These awards will develop best practice models by piloting both the professionally specific curriculum and the curriculum enhancement process to be widely disseminated to other academic institutions across the country upon project completion.

Applicants shall demonstrate through programmatic descriptions and letters of support that the funds awarded will be utilized to support multidisciplinary training consisting of no fewer than three health care disciplines.

Awardees will:

1. Adapt/refine existing curricula or if necessary, develop new curriculum addressing their students' knowledge, skills and abilities to:

(a) Recognize indications of a terrorist event in their patients;

(b) Provide acute care in a safe and appropriate manner;

(c) Rapidly and effectively alert the public health system of such an event at the community, State, and national level; and

(d) Coordinate their response as part of a multi-disciplinary team approach to a terrorist event.

2. Pilot and evaluate the curriculum; and

3. Incorporate the training into their required overall curriculum within two years.

Federal Involvement

Federal: Division of State, Community and Public Health, AHEC Branch staff will:

• Review all changes to the composition of all advisory committees and boards;

• Participate in an annual evaluation of the cooperative agreement program;

• Assist in planning and implementing project priorities by coordinating and facilitating the interchange technical and program information;

• Assist project staff in the development, compilation and dissemination of materials prepared by project personnel;

• Review for programmatic content all contracts and agreements among recipient medical or osteopathic schools, other health professional schools and community-based centers (unless such reviews are formally delegated to the recipient cooperating school); and

• Provide guidance concerning the content, structure and form of the annual progress report and final project report.

Funding Priorities and/or Preference

None.

Statutory Matching or Cost Sharing Requirement

None.

Administrative Special Consideration

Special consideration will be given to applicants who (a) develop new and innovative approaches to education and training using distance learning methodologies/telehealth, or (b) enhance or expand existing distance learning educational programs with the purpose of preparing health professionals and health professional students to deliver quality health care in medically underserved communities. A special consideration is another factor considered in making funding decisions that is neither a review criterion, preference, nor priority.

Review Criteria

Applications will be reviewed by a panel of peer reviewers using the following criteria:

(1) Purpose, Need and Rationale: The extent to which the purpose is consistent with the legislative purpose and is clearly described and the extent to which the need for the proposed project is thoroughly documented;

(2) Project Effectiveness: The extent to which potential effectiveness of the proposed project in carrying out the education purposes of the Bioterrorism Training and Curriculum Development Program is clearly described;

(3) Project Plan: The extent to which the project plan is clearly articulated and specifies measurable outcome objectives which are attainable within the stated time frame;

(4) Linkages and Collaborative Efforts: The degree to which the applicant describes a comprehensive coordinated multidisciplinary approach to the training of health professionals;

(5) Project Management: The extent that the applicant identifies activities and outcomes that are related to the outcome objectives given the proposed level of staff, resources available, length of the project period and institutional eligibility; and

(6) Fiscal Plan: The extent to which the fiscal plan describes the effective use of funds and resources to carry out the project.

Estimated Amount of Available Funds

It is estimated that $26 million will be available for fiscal year 2003.

Estimated Number of Awards

It is estimated that the number of awards may vary for Continuing Education from 15-25.

It is estimated that the number of awards may vary for the Curricular Enhancement from 10-12.

Estimated Average Size of Each Award

It is estimated that the average size of each award for Continuing Education may range from $900,000 to $1,500,000.

It is estimated that the average size of each award for Curricular Enhancement may range from $300,000 to $400,000.

Estimated Project Period

Applications will be submitted for two years. The first budget period will be September 1, 2003 to August 31, 2004; the second budget period will be September 1, 2004 to August 31, 2005, subject to the availability of funds and evaluation of recipient performance.

Application Requests, Availability, Deadline and Addresses

Application materials are available for downloading via the web at http://bhpr.hrsa.gov/grants/default.htm. Applicants may also request a hard copy of the application material by contacting the HRSA Grants Application Center, Grants Management Office, 901 Russell Avenue, Suite 450, Gaithersburg, MD 20879 or by calling (877) 477-2123 or by Fax at 1-877-477-2345. In order to be considered for competition, applications must be postmarked or submitted to the address listed above by the due date of June 16, 2003. Applicants should request a legibly dated U.S. Postal postmark or obtain a legibly dated receipt from a commercial carrier or U.S. Postal Service. Private metered postmarks shall not be acceptable as proof of timely mailing. An application receipt will not be provided. Applications submitted after the deadline date will be returned to the applicant and not processed. Applicants should note that HRSA anticipates accepting grant applications online in the last quarter of the Fiscal Year (July through September). Please refer to the HRSA grants schedule at http://www.hrsa.gov/grants.htm for more information.

Projected Award Date: September 30, 2003.

FOR FURTHER INFORMATION CONTACT: Lynn Rothberg Wegman, Division of State, Community and Public Health, Bureau of Health Professions, HRSA, Room 9-105, Parklawn Building, 5600 Fishers Lane, Rockville, Maryland 20857. Ms. Wegman's telephone number is 301-443-1648.

Additional Information: Technical Assistance Workshops will be conducted at the following locations: Atlanta, GA; Boston, MA; Chicago, IL; Dallas, TX; Denver, CO; San Francisco, CA; and Washington, DC. Additional details, including the specific Dates for the workshops, may be obtained via the web at http://bhpr.hrsa.gov/grants/default.htm. Attendance at the workshops is optional and at the expense of the participant. Registration is required and may be completed by contacting Karen L. Ellis at (301) 315-2806 and Maria Smith at (301) 315-2844 or by registering on line at http://meetings.Z-techcorp.com/meetings.

Paperwork Reduction Act: The Application for the Bioterrorism Training and Curriculum Development Program has been approved by the Office of Management and Budget (OMB) under the Paperwork Reduction Act. Should any data collection associated with the evaluation of this cooperative agreement fall under the purview of the Paperwork Reduction Act, OMB clearance will be sought. The OMB clearance number is 00915-0060.

The program is not subject to the provision of Executive Order 12372, Intergovernmental Review of Federal Programs (as implemented through 45 CFR part 100).

Dated: April 18, 2003.
Elizabeth M. Duke,
Administrator.

[FR Doc. 03-10934 Filed 5-2-03; 8:45 am]

BILLING CODE 4165-15-P